GENERAL SERVICES ADMINISTRATION

[OMB Control No. 3090-0086; Docket No. 2025-0001; Sequence No. 15]

Submission for OMB Review; General Services Administration Acquisition Regulation; Proposal To Lease Space, GSA Form 1364 and Lessor's Annual Cost Statement, GSA Form 1217

AGENCY: Office of Acquisition Policy, General Services Administration (GSA).

ACTION: Notice; request for comments.

SUMMARY: In accordance with the Paperwork Reduction Act of 1995, and the Office of Management and Budget (OMB) regulations, GSA invites the public to comment on an extension of a previously approved information collection requirement regarding OMB Control No. 3090-0086, Proposal to Lease Space, GSA Form 1364 and Lessor's Annual Cost Statement, GSA Form 1217.

DATES: Submit comments on or before January 7, 2026.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Amy Lara, 816-589-3783, General Services Acquisition Policy Division, by email at gsarpolicy@gsa.gov.

SUPPLEMENTARY INFORMATION:

A. Purpose

The information collected is used by contracting officers to evaluate lease proposals and negotiate lease contract terms and conditions in a competitive or non-competitive environment. As this information is still currently required, GSA seeks to have this information collection extended for three years.

B. Annual Reporting Burden

Public reporting burden for Proposal to Lease Space, GSA Form 1364 and Lessor's Annual Cost Statement, GSA Form 1217, is estimated to average 3.225 hours per response, including the time for reviewing instructions, searching existing data sources, gathering and maintaining the data needed, and completing and reviewing the collection of information.

The annual reporting burden is estimated as follows:

Total annual responses: 1,332.

Preparation hours per response: 3.225.

Total response burden hours: 5,095.

C. Public Comments

A 60-day notice was published in the Federal Register at 90 FR 48055 on October 3, 2025. No public comments were received.

Jeffrey A. Koses,
Senior Procurement Executive, Office of Acquisition Policy, Office of Government-wide Policy.

[FR Doc. 2025-22236 Filed 12-5-25; 8:45 am]

BILLING CODE P